DEPARTMENT OF AGRICULTURE

Forest Service

Catron County Resource Advisory Committee

AGENCY: Forest Service, USDA.

ACTION: Notice of meeting.

SUMMARY: The Catron County Resource Advisory Committee will meet in Reserve, New Mexico, on January 27, 2004, at 10 a.m. m.s.t. The purpose of the meeting is to discuss use of project proposal form, establish process for project submission, evaluate submitted projects and select projects for recommendation.

DATES: The meeting will be held January 27, 2004.

ADDRESSES: The meeting will be held at the Catron County Courtroom of the Catron County Court House, 101 Main Street, Reserve, New Mexico 87830. Send written comments to Michael Gardner, Catron County Resource Advisory Committee, c/o Forest Service, USDA, 3005 E. Camino del Bosque, Silver City, New Mexico 88061-7863 or electronically to mgardner01@fs.fed.us.

FOR FURTHER INFORMATION CONTACT: Michael Gardner, Rural Community Assistant Staff, Gila National Forest, (505) 388-8212.

SUPPLEMENTARY INFORMATION: The meeting is open to the public. Committee discussion is limited to Forest Service staff and Committee members unless provided for on the agenda. However, persons who wish to bring Pub. L. 106-393 related matters to the attention of the Committee may file written statements with the Committee Staff before or after the meeting. Public input sessions will be provided and individuals may address the committee at times provided on the agenda in the morning and afternoon.

Dated: December 30, 2003.
Marcia R. Andre,
Forest Supervisor, Gila National Forest.

[FR Doc. 04-184 Filed 1-5-04; 8:45 am]

BILLING CODE 3410-11-M